DEPARTMENT OF TRANSPORTATION

Federal Railroad Administration

Notice of Final Agency Actions on Proposed Railroad Project in California, on Behalf of the California High-Speed Rail Authority

Correction

In notice document 2020-27441 appearing on pages 80888 through 80889 in the issue of Monday, December 14, 2020, make the following correction:

On page 80888, in the second column, in the DATES section, change “January 14, 2022” to read “December 14, 2022.”

[FR Doc. C1-2020-27441 Filed 2-12-21; 8:45 am]

BILLING CODE 1301-00-D